DEPARTMENT OF ENERGY

Federal Energy Regulatory Commission

[Docket Nos. ER12-91-000, ER12-91-002, ER12-92-002]

PJM Interconnection, L.L.C., Duke Energy Ohio, Inc., Duke Energy Kentucky, Inc; Notice of Filing

Take notice that on April 5, 2012, Duke Energy Ohio, Inc. and Duke Energy Kentucky, Inc., tendered for filing a Settlement Agreement on behalf of themselves and the Indiana Municipal Power Agency, pursuant to 18 CFR 385.602, in the above-docketed proceeding. Pursuant to 18 CFR 385.602(f)(2) initial comments on the settlement agreement should be filed on or before April 18, 2012. Reply comments are due on or before April 20, 2012.

Dated: April 12, 2012.
Kimberly D. Bose,
Secretary.

[FR Doc. 2012-9370 Filed 4-18-12; 8:45 am]

BILLING CODE 6717-01-P